DEPARTMENT OF DEFENSE

Department of the Navy

Notice of Partially Closed Meeting of the Secretary of the Advisory Panel; Correction

AGENCY: Department of the Navy, DoD.

ACTION: Notice; correction.

SUMMARY: The Department of the Navy published a document in the Federal Register on September 05, 2008, announcing a partially closed meeting of the Secretary of the Advisory Panel (SNAP). The date and location of the meeting contained in the document have changed.

FOR FURTHER INFORMATION CONTACT: Colonel Caroline Simkins-Mullins, SECNAV Advisory Panel, Office of Program and Process Assessment, 1000 Navy Pentagon, Washington, DC 20350, telephone: 703-697-9154.

Correction

In the Federal Register of September 05, 2008, in FR Doc. E8-20554, make the following changes:

1. In the second column, on page 51799, correct the DATES caption to read as follows:

“DATES: The meeting will be held on October 16, 2008 from 8:30 a.m. to 4:30 p.m. The morning sessions on Acquisition Structure from 8:30-11:30 a.m. will be opened. The afternoon sessions will be closed.”

2. In the second column, on page 51799, correct the ADDRESSES caption to read as follows:

“ADDRESSES: The meeting will be held in Room 1E868, in the Pentagon, 1000 Navy Pentagon, Washington, DC 20350. Public access is limited due to the Pentagon Security requirements. Any individual wishing to attend the meeting must contact LCDR Cary Knox, USN at 703-693-0463 or Colonel Simkins-Mullins at 703-697-9154 no later than October 9, 2008. Members of the public who do not have Pentagon access will be required to provide the following information by October 9, 2008 in order to obtain a visitor badge: Name, Date of Birth and Social Security Number. Public transportation is recommended as public parking is not available. Members of the public wishing to attend this meeting must enter through the Pentagon Metro Entrance between 7:45 a.m. and 8:15 a.m. Members of the public will need two forms of identification in order to receive a visitors badge and meet their escort. Members of the public will be escorted to Room 1E868 to attend the open sessions of the Advisory Panel and shall remain with designated escorts at all times while on the Pentagon Reservation. Members of the public will be escorted back to the Pentagon Metro Entrance at the 11:30 a.m.”

Dated: September 24, 2008.
T.M. Cruz,
Lieutenant Commander, Judge Advocate Generals Corps, U.S. Navy, Federal Register Liaison Officer.

[FR Doc. E8-23037 Filed 9-30-08; 8:45 am]

BILLING CODE 3810-FF-P